DEPARTMENT OF LABOR

Employment and Training Administration

[TA-W-56,948, TA-W-56,948A, TA-W-56,948B]

Standard Commercial Corporation, Miller Road Tobacco Processing Facility, Miller Road Corporate Headquarters, Stantonsburg Road Factory and Office Complex, Now Known as Alliance One International, Inc., Wilson, NC; Amended Certification Regarding Eligibility To Apply for Worker Adjustment Assistance and Alternative Trade Adjustment Assistance

In accordance with section 223 of the Trade Act of 1974 (19 U.S.C. 2273), and section 246 of the Trade Act of 1974, (26 U.S.C. 2813), as amended, the Department of Labor issued a Certification of Eligibility to Apply for Worker Adjustment Assistance and Alternative Trade Adjustment Assistance on May 4, 2005, applicable to workers of Standard Commercial Corporation, Miller Road Tobacco Processing Facility, Wilson, North Carolina, Miller Road Corporate Headquarters, Wilson, North Carolina and Stantonsburg Road Factory and Office Complex, Wilson, North Carolina. The notice was published in the Federal Register on May 25, 2005 (70 FR 30145).

At the request of the State agency, the Department reviewed the certification for workers of the subject firm. The workers were engaged in activities relating to the processing of leaf tobacco.

New information shows that Standard Commercial Corporation, Miller Road Tobacco Processing Facility, Miller Road Corporate Headquarters, and Stantonsburg Road Factory and Office Complex, Wilson, North Carolina is now known as Alliance One International, Inc. following a merger in May 2005. Workers separated from employment at the subject firm had their wages reported under two separate unemployment insurance (UI) tax accounts for Alliance One International, Inc.

Accordingly, the Department is amending this certification to properly reflect this matter.

The intent of the Department's certification is to include all workers of Standard Commercial Corporation, Miller Road Tobacco Processing Facility, Miller Road Corporate Headquarters and Stantonsburg Road Factory and Office Complex, Wilson, North Carolina who were adversely affected by increased company imports.

The amended notice applicable to TA-W-56,948 is hereby issued as follows:

All workers of Standard Commercial Corporation, now known as Alliance One International, Inc., Wilson Road Tobacco Processing Facility, Wilson, North Carolina (TA-W-56,948), Standard Commercial Corporation, now known as Alliance One International, Inc., Miller Road Corporate Headquarters, Wilson North Carolina (TA-W-56,948A), and Standard Commercial Corporation, now known as Alliance One International, Inc. Stantonsburg Road Factory and Office Complex, Wilson, North Carolina, who became totally or partially separated from employment on or after March 25, 2004, through May 4, 2007, are eligible to apply for adjustment assistance under section 223 of the Trade Act of 1974, and are also eligible to apply for alternative trade adjustment assistance under section 246 of the Trade Act of 1974.

Signed at Washington, DC, this 2nd day of November, 2005.
Richard Church,
Certifying Officer, Division of Trade Adjustment Assistance.

[FR Doc. E5-6318 Filed 11-15-05; 8:45 am]

BILLING CODE 4510-30-P